ENVIRONMENTAL PROTECTION AGENCY

[ER-FRL-9025-2]

Environmental Impact Statements; Notice of Availability

Responsible Agency: Office of Federal Activities, General Information (202) 564-7146 or http://www2.epa.gov/nepa.

Weekly receipt of Environmental Impact Statements (EISs)

Filed 01/11/2016 Through 01/15/2016

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160011, Final, USFS, WV, 2016-2020 Fernow Experimental Forest, Review Period Ends: 02/22/2016, Contact: Thomas M. Schuler 304-478-2000.

EIS No. 20160012, Final, FHWA, LA, Baton Rouge Loop Tier 1, Review Period Ends: 02/22/2016, Contact: Todd Jeter 225-757-7612.

EIS No. 20160013, Final Supplement, USACE, MS, Mississippi Coastal Improvements Program, Comprehensive Barrier Island Restoration, Review Period Ends: 02/22/2016, Contact: Dr. Susan Rees 251-694-4141.

EIS No. 20160014, Final, USACE, CA, American River Common Features General Reevaluation, Review Period Ends: 02/22/2016, Contact: Anne Baker 916-557-7277.

EIS No. 20160015, Final, USACE, CA, West Sacramento Project, Review Period Ends: 02/22/2016, Contact: Sarah Ross Arrouzet 916-557-5256.

Dated: January 19, 2016.
Dawn Roberts,
Management Analyst, NEPA Compliance Division, Office of Federal Activities.

[FR Doc. 2016-01287 Filed 1-21-16; 8:45 am]

BILLING CODE 6560-50-P